DEPARTMENT OF COMMERCE

National Oceanic and Atmospheric Administration

[I.D.062900D]

Marine Mammals; Permit Nos. 914-1470-01 and 779-1339-02

AGENCY: National Marine Fisheries Service (NMFS), National Oceanic and Atmospheric Administration (NOAA), Commerce.

ACTION: Receipt of applications for amendment.

SUMMARY: Notice is hereby given that University of Southern Mississippi, Box 5018, Hattiesburg, MS 39401, and National Marine Fisheries Service Southeast Fisheries Science Center, 75 Virginia Beach Drive, Miami, FL 33149, have requested an amendment to scientific research Permit No. 914-1470 and 779-1339, respectively.

DATES: Written or telefaxed comments must be received on or before August 10, 2000.

ADDRESSES: The amendment request and related documents are available for review upon written request or by appointment in the following office(s):

Permits and Documentation Division, Office of Protected Resources, NMFS, 1315 East-West Highway, Room 13705, Silver Spring, MD 20910 (301/713-2289);

Southeast Region, NMFS, 9721 Executive Center Drive North, St. Petersburg, FL 33702-2432 (813/570-5312); and

Northeast Region, NMFS, One Blackburn Drive, Gloucester, MA 01930, (978/281-9250).

Written comments or requests for a public hearing on this request should be submitted to the Chief, Permits and Documentation Division, F/PR1, Office of Protected Resources, NMFS, 1315 East-West Highway, Room 13130, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Ruth Johnson or Simona Roberts, 301/713-2289.

SUPPLEMENTARY INFORMATION: The amendment request to Permit No. 914-1470, issued on November 12, 1998 (63 FR 64066), and Permit No. 779-1339, issued on July 8, 1997 (62 FR 38069) are requested under the authority of the Marine Mammal Protection Act of 1972, as amended (16 U.S.C. 1361 et seq.), the Regulations Governing the Taking and Importing of Marine Mammals (50 CFR part 216), and the Endangered Species Act of 1973, as amended (ESA; 16 U.S.C. 1531 et seq.), the regulations governing the taking, importing, and exporting of endangered and threatened species (50 CFR 222-226).

Permit No. 914-1470 authorizes the permit holder to: import fluid and tissue samples of bottlenose dolphin, beluga whale and Pacific white-sided dolphin from the Bahamas, Honduras and Finland. The permit holder requests authorization to: import blood samples of Southern elephant seals from Argentina.

Permit No. 779-1339 authorizes the permit holder to: conduct research that involves biopsy sampling, photo-identification and photo-grammetry on a variety of marine mammal species in the North Atlantic ocean, including the Gulf of Mexico, Caribbean Sea, U.S. territorial seas and international waters. The Holder wants to increase the number of animals authorized to be biopsied sampled.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 3, 2000.
Ann D. Terbush,
Chief, Permits and Documentation Division, Office of Protected Resources, National Marine Fisheries Service.

[FR Doc. 00-17511 Filed 7-10-00; 8:45 am]

BILLING CODE 3510-22-F